DEPARTMENT OF ENERGY

Federal Energy Regulatory Commission

[Docket No. CP01-80-000]

East Tennessee Natural Gas Company; Notice of Application

February 9, 2001.

Take notice that on February 2, 2001, East Tennessee Natural Gas Company (East Tennessee), Post Office Box 1642, Houston, Texas, 77251-1642, filed in Docket No. CP01-80-000 an application pursuant to Section 7(c) of the Natural Gas Act for authorization to construct, own, and operate additional pipeline and compression facilities in Tennessee and Georgia and to extend its Line 3500 in Tennessee and Georgia to provide transportation to new customers in Georgia, all as more fully set forth in the application on file with the Commission and open to public inspection. This filing may be viewed on the web at http://www.ferc.fed.us/online/htm (call 202-208-2222 for assistance).

East Tennessee proposes to construct and operate approximately 27 miles of 20-inch pipeline as an extension of its Line 3500 in Hamilton County, TN, and Catoosa, Whitfield, and Murray Counties, GA (the Murray Lateral); to construct four 20-inch pipeline loops adjacent to the existing East Tennessee system in Bedford, Moore, Franklin, Marion, and Hamilton Counties, TN; and to hydrostatically test four pipeline sections of approximately 30 miles of 12-inch pipeline and to increase the maximum allowable operating pressures (MAOP) of six pipeline sections on the East Tennessee system in Marshall, Bedford, Moore, Franklin, Marion, Sequatchie, McMinn, and Grundy Counties, TN. East Tennessee also proposes to install an additional 10,950 horsepower (hp) at two existing compressor stations by increasing horsepower at Stations 3210 and 3214 and to install a 1590 hp compressor unit at the new Station 3216 in McMinn County, TN, by moving the existing compressor unit from Station 3210. In addition, East Tennessee would construct two gas meter stations and regulators: one in Whitfield County and one in Murray County, GA.

East Tennessee states that the proposed construction would allow it to provide 5,000 dekatherms per day (Dth/d) for Dalton Utilities (Dalton), and the City of Cartersville (Cartersville), GA; and it would provide increasing volumes up to 165,000 Dth/d of firm transportation service to Duke Energy Murray, LLC (DENA Murray), jointly referred to as the Murray customers. This transportation service will allow Dalton and Cartersville to meet the anticipated growth in their existing markets in the Georgia area. In addition, this firm transportation will deliver gas supply to the Murray electric generating plant (Murray Energy facility), a 1240-megawatt (MW) gas-fired power plant being developed by and to be owned by DENA Murray in Murray County, GA. East Tenn estimates the cost of the proposed facilities to be $69,390,000.

East Tenn proposes to provide service pursuant to firm transportation service agreements entered into pursuant to its Rate Schedule FT-A. However, service to its Murray customers would be provided at an incremental rate.

East Tenn states that the Murray Energy Facility has commenced construction and has made significant capacity commitments for long lead-time items, including a contractual commitment with General Electric for four electric turbines. Therefore, East Tenn requests that a certificate be issued by August 15, 2001.

Any questions regarding the application should be directed to Steven E. Tillman, Director, Regulatory Affairs, East Tennessee Natural Gas Company, P.O. Box 1642, Houston, Texas, 77251, (713) 627-5044.

Any person desiring to be heard or to make any protest with reference to said application should on or before February March 2, 2001, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically in lieu of paper. See 18 CFR 385.2001(a)(1)(iii) and the instructions on the Commission's website at http://ferc.fed.us/efl/doorbell.htm.

A person obtaining intervenor status will be placed on the service list maintained by the Secretary of the Commission and will receive copies of all documents filed by the applicant and by ever one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be necessary for East Tennessee to appear or to be represented at the hearing.

Linwood A. Watson, Jr.,
Acting Secretary.

[FR Doc. 01-3807 Filed 2-14-01; 8:45 am]

BILLING CODE 6717-01-M